DEPARTMENT OF TRANSPORTATION

Federal Transit Administration

Environmental Impact Statement on Transportation Improvements Within the Southeast Corridor in Dallas, TX

AGENCY: Federal Transit Administration, DOT.

ACTION: Notice of intent to prepare an Environmental Impact Statement.

SUMMARY: The Federal Transit Administration (FTA) and Dallas Area Rapid Transit (DART) have issued this notice to advise interested agencies and the public of their intent to prepare an Environmental Impact Statement (EIS) on the proposed Southeast Corridor Light Rail Transit (LRT) Project, in Dallas, Texas. The EIS will be prepared in accordance with the National Environmental Policy Act of 1969 (NEPA), as amended. The Dallas-Fort Worth region is currently designated as a serious non-attainment area for ozone by the Environmental Protection Agency.

The Southeast Corridor Light Rail Transit (LRT) Project is the product of the Southeast Corridor Major Investment Study (MIS), completed by DART in early 2000. The MIS identified a Locally Preferred Investment Strategy (LPIS), which included the light rail being advanced into the EIS phase of project development at this time. A separate EIS is also being prepared for a DART LRT extension in the Northwest Corridor of the Dallas metropolitan area.

DATES: Comment Due Date: Written comments on the scope of the alternatives and impacts to be considered should be sent to John Hoppie, Project Manager by December 20, 2000. See ADDRESSESS below.

Scoping Meetings: Three public scoping meetings will be held at the following locations and dates. Scoping material will be available at the meeting or in advance of the meeting. DART will conduct public scoping meetings on the following dates and at the following locations:

Tuesday, November 28, 2000, from 6:30 p.m. to 9 p.m., Baylor—Tom Landry Center, 411 N. Washington Ave., Dallas, Texas

Wednesday, November 29, 2000, from 6:30 p.m. to 9 p.m., Martin Luther King Jr. Senior Center, 2922 Martin Luther King Jr. Blvd., Dallas, Texas

Thursday November 30, 2000, from 6:30 p.m. to 9 p.m., Pleasant Mound UMC, 8301 Bruton Rd., Dallas, Texas

Interagency Coordination Meeting: DART will conduct an interagency coordination meeting with appropriate federal, state, and local agencies on the following date and at the following location:

Wednesday, December 6, 2000, 10 a.m. to 12 p.m., DART Board Conference Room 1-C, 1401 Pacific Avenue, Dallas, Texas

ADDRESSES: Written comments on the project scope should be sent to John Hoppie, Project Manager, DART Planning, P.O. Box 660163, 1401 Pacific Avenue, Dallas, Texas 75266. Telephone (214) 749-2525, Fax (214) 749-3670, E-mail: jhoppie@dart.org.

FOR FURTHER INFORMATION CONTACT: Mr. Jesse Balleza, Community Planner, Federal Transit Administration, Region VI; Telephone (817) 978-0550.

SUPPLEMENTARY INFORMATION:

I. Scoping

The FTA and DART invite interested individuals, organizations, and federal, state, and local agencies to participate in refining the Southeast Corridor LRT Line including alignment and station locations. Comments should focus on identifying any significant social, economic, or environmental issues related to the alignment. Specific suggestions related to additional alternatives to be examined and issues to be addressed are welcome and will be considered in the final scope for the project. Scoping comments may be made at the scoping meetings or in writing no later than December 20, 2000. (see DATES and ADDRESSES above.)

Scoping comments should focus on identifying specific social, economic, or environmental impacts to be evaluated, and suggesting alternatives that are less costly or less environmentally damaging, which achieve similar transit objectives. Comments should focus on the issues and alternatives for analysis, and not on a preference for a particular alternative. Additional information on the EIS process, alternatives, and impact issues to be addressed will be included in the “Scoping Information Document”. Copies of the document will be available from DART immediately prior to the scoping meetings (see DATES and ADDRESSES above.)

II. Description of Study Area and Project Need

The Southeast Corridor Light Rail Transit (LRT) Project includes 10.2 miles of LRT running on new double tracks in existing railroad corridors with some street running along Good Latimer and Parry Avenue. There are 9 LRT stations, including 6 with Park & Ride Lots (totaling just under 2000 parking spaces), and 2 with transfer facilities to other modes.

The Southeast Corridor Major Investment Study defined and evaluated a range of project alternatives using a two-phased evaluation process. In addition to the No Build Alternative, a Transportation Systems Management (TSM) Alternative, and several variations of Light Rail Transit (LRT) Alternatives were considered. Based on work group and public input, and based on the technical analysis, the above-described Build Alternative was selected. While some alignment refinements will continue for the Build Alternative, the other alternatives considered were dropped from further consideration. The EIS will consider the No Build Alternative in addition to Southeast LRT Line as the Build Alternative (see ALTERNATIVES below).

DART's Southeast Corridor contains a dynamic mix of land uses including a burgeoning, eclectic entertainment district; one of the region's most prestigious hospital facilities; a multi-faceted, 277 acre, cultural, historical, museum, and entertainment complex; and large areas of single-family and multi-family housing.

The existing corridor and station area development character in the Southeast Corridor has three distinct subareas:

(1) The Baylor HCS/Deep Ellum/Bryan Place is a redeveloping/ revitalizing area of a previously urban core environment of warehouses and commercial uses into multi-family lofts, artists' studios, retail, and service businesses. The area is anchored by Baylor HCS. This area includes pedestrian oriented development. The Deep Ellum area has been designated a historic district. Hundreds of new housing units have been created through new construction or conversion of older buildings. This area is within the City of Dallas Intown Housing Program boundary, which is a local initiative aimed at increasing the vitality of the Central Business District by providing mixed income housing through joint ventures with private developers. (2) The South Dallas/Fair Park area is characterized by commercial/light industrial and loft apartments immediately west of Fair Park; a strip of commercial businesses along R.B. Cullum; and single-family residential with some apartments and duplexes to the south and west of Fair Park. Fair Park is a 277-acre city park, which is listed on the National Register of Historic Places. This area is one of the most transit dependent areas of the city. In the South Dallas/Fair Park area, several community-based organizations have on-going in-fill housing programs. (3) The Pleasant Grove/Buckner Terrace area is primarily composed of residential, industrial, and retail/commercial uses. The commercial activities are concentrated along Buckner Boulevard/Loop 12. This area contains a large amount of vacant land, which is dedicated parkland and/or located in the floodplain. Additionally, development of single-family residential housing in the Pleasant Grove and Buckner Terrace areas is filling the last remaining land for housing developments.

DART's 10.2-mile Southeast Corridor LRT extension, like its original 20-mile starter System, is contained entirely within the Dallas city limits. The University of North Texas Center for Economic Development and Research assessed the impacts of the DART LRT Starter System and estimated over $850 million has been invested in and around DART's new LRT stations. Development currently completed or planned at DART stations varies from a new hotel and mixed-use development downtown, to new residential and municipal facilities in a redevelopment area around the Cedars Station south of downtown Dallas.

Along with the previously mentioned transit supportive land use considerations, some of the other influencing conditions within the Southeast Corridor include:

Environmental Justice and Equity Issues—Within the 47 census tracts covering the Southeast Corridor study area, the majority of tracts have a higher percentage of minority and/or low-income population than the average for the county. Through the extensive public involvement and outreach efforts for the project, equity issues related to the South Dallas neighborhood and the Fair Park area have been identified. It is perceived by the neighborhoods that the needs of the community have been overshadowed or set aside for the economic benefit of Fair Park. Fair Park has expanded several times since its establishment; many times residences were purchased by the city to accommodate the expansion. Additionally, special events at the park's numerous venues can create traffic problems and congestion in the neighborhoods. In the Pleasant Grove area, equity issues related to transit service have been identified. Many residents perceive the Southeast Corridor as the last to receive LRT service it has been promised. However, DART services and the concept of LRT in the corridor are widely supported. The LRT project is seen as providing better transit service and a catalyst for economic development.

Station Area Economic Development Potential—Economic development potential of the terminus station was identified by the DART Board of Directors as one of the primary criteria to be used to compare two vastly different alternative alignments for the final two-mile segment of the LRT line. This further emphasizes the growing importance that DART is placing on economic development.

Historical Transit Service—The LRT alignment and station along Parry Avenue will be at near the ceremonial entrance to Fair Park. This alignment and station will reestablish similar service to the park that was provided by the Dallas Interurban Trolley system until the 1950's.

III. Alternatives

The transportation alternatives proposed for consideration in this project area include:

No-Build Alternative—The No-Build Alternative involves no change to transportation services or facilities in the corridor beyond already committed projects.

Build Alternative—The Southeast Corridor Project (including line, station locations and support facilities), consists of 10.2 miles of LRT running on new double tracks in existing railroad corridors with some street running in along Good Latimer and Parry Avenue. There are 9 potential LRT stations, including 6 with Park & Ride Lots (totaling just under 2000 parking spaces), and 2 with transfer facilities to other modes.

IV. Probable Effects

The FTA and DART will evaluate all significant environmental, social, and economic impacts of the alternatives analyzed in the EIS. Impact areas to be addressed include: land use, zoning, and economic development; secondary development; land acquisition, displacements, and relocation of existing uses; historic, archaeological, and cultural resources; parklands and recreation areas; visual and aesthetic qualities; neighborhoods and communities; environmental justice; air quality; noise and vibration; hazardous materials; ecosystems; water resources; energy; safety and security; utilities; traffic and transportation impacts. Potential impacts will be assessed for the long-term operation of each alternative and the short-term construction period. Measures to avoid, minimize, or mitigate any significant adverse impacts will be identified.

V. FTA Procedures

The EIS process will be performed in accordance with applicable laws and Federal Transit Administration regulations and guidelines for preparing an Environmental Impact Statement. The impacts of the project will be assessed, and, if necessary, the scope of the project will be revised or refined to minimize and mitigate any adverse impacts. After its publication, the draft EIS will be available for public review and comment. One or more public hearings will be held during the draft EIS public comment period. On the basis of the draft EIS and comments received, the project will be revised or further refined as necessary and the final EIS prepared.

Issued on: October 30, 2000.
Robert C. Patrick,
Regional Administrator.

[FR Doc. 00-28301 Filed 11-2-00; 8:45 am]

BILLING CODE 4910-57-P